DEPARTMENT OF STATE

[Public Notice 6305]

Determination and Certification Related to Colombian Armed Forces Under Section 556 of the Foreign Operations, Export Financing, and Related Programs Appropriations Act, 2006 (Pub. L. 109-102) as Carried Forward in the Revised Continuing Appropriations Resolution, 2007 (Pub. L. 110-5) and Section 649 of the Department of State, Foreign Operations, and Related Programs Appropriations Act, 2008 (Div. J, Pub. L. 110-161).

Pursuant to the authority vested in the Secretary of State, including under Section 556 of the Foreign Operations, Export Financing, and Related Programs Appropriations Act, 2006 (Pub. L. 109-102) (“FY 2006 FOAA”), as carried forward in the Revised Continuing Appropriations Resolution, 2007 (Pub. L. 110-5) (“FY 2007 CR”), and Section 649 of the Department of State, Foreign Operations, and Related Programs Appropriations Act, 2008 (Div. J, Pub. L. 110-161) (“FY 2008 SFOAA”), and delegated to me pursuant to Department of State Delegation of Authority 245, I hereby determine, certify, and report that the Colombian Armed Forces are meeting the conditions contained in Sections 556(a)(2) and 556(a)(3) of FY 2006 FOAA, as carried forward in the FY 2007 CR, as well as Sections 649(c)(2) and 649(c)(3) of the FY 2008 SFOAA, and that I have consulted with Congress as is consistent with the latter.

The Department of State has periodically consulted with internationally recognized human rights organizations regarding the Colombian Armed Forces' progress in meeting the above-mentioned conditions, as provided in Section 556(c) of the FY 2006 FOAA, as carried forward in the FY 2007 CR, and Section 649(d) of the FY 2008 SFOAA.

This Determination and Certification shall be published in the Federal Register and copies shall be transmitted to the appropriate committees of Congress.

Dated: July 28, 2008.
John D. Negroponte,
Deputy Secretary of State, Department of State.

[FR Doc. E8-17680 Filed 7-30-08; 8:45 am]

BILLING CODE 4710-29-P